ENVIRONMENTAL PROTECTION AGENCY

40 CFR Part 180

[EPA-HQ-OPP-2005-0174 and EPA-HQ-OPP-2003-0373; FRL-8075-6]

Sulfuryl Fluoride; Request for Stay of Tolerances

AGENCY: Environmental Protection Agency (EPA).

ACTION: Availability of request for stay of the effectiveness of tolerances; request for comments.

SUMMARY: This document announces the availability of a document requesting a stay of the effectiveness of various pesticide tolerances under the Federal Food, Drug, and Cosmetic Act for sulfuryl fluoride and fluoride, and opens a public comment period on this document. This request for a stay was filed in conjunction with objections and requests for hearings that were submitted in response to promulgation of these tolerances. The stay request relies primarily on the recent report of the National Research Council on fluoride.

DATES: Comments must be received on or before August 4, 2006.

ADDRESSES: Submit your comments, identified by docket identification (ID) number(s) EPA-HQ-OPP-2005-0174 and/or EPA-HQ-OPP-2003-0373, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Drive, Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number(s) EPA-HQ-OPP-2005-0174 and/or EPA-HQ-OPP-2003-0373. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Drive, Arlington, VA. The hours of operation of this Docket Facility are from 8:30 a.m. to 4 p.m., Monday through Friday, excluding legal holidays. The Docket Facility telephone number is (703) 305-5805.

FOR FURTHER INFORMATION CONTACT: Meredith Laws, Registration Division (7505P), Office of Pesticide Programs, Environmental Protection Agency, 1200 Pennsylvania Ave., NW., Washington, DC 20460-0001; telephone number: (703) 308-7038; fax number: (703) 308-0029; e-mail address: laws.meredith@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket (ID) number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action Is the Agency Taking?

EPA has received a motion requesting that EPA stay the effectiveness of pesticide tolerances for sulfuryl fluoride and fluoride promulgated on January 23, 2004 (69 FR 3240) (FRL-7342-1), and July 15, 2005 (70 FR 40899) (FRL-7723-7). There are currently objections and requests for hearing pending with regard to these tolerances. The objections and requests for hearing were filed by the Environmental Working Group, the Fluoride Action Network, and Beyond Pesticides/National Coalition (“the objectors”). The motion is dated June 1, 2006, but it was not received by EPA counsel handling this matter until June 13, 2006. As the basis for a stay, the objectors rely heavily on the National Research Council's report titled Fluoride in Drinking Water: A Scientific Review of EPA's Standards. This report was released on March 22, 2006.

Given that the tolerances as to which the stay is being sought have been in effect for an extended period and that the request for a stay raises complex science issues of great public interest, EPA is publishing this notice of availability of the motion for a stay and requesting comment on the motion. The motion for a stay is available in the OPP Regulatory Public Docket under the dockets for the tolerance rules in question: EPA-HQ- OPP-2005-0174 and EPA-HQ-OPP-2003-0373. The OPP Regulatory Public Docket is physically located at the address included in the ADDRESSES section above. The dockets for these rulemakings are also available online in the Federal Government's electronic docket at www.regulations.gov.

B. What Is the Agency's Authority for Taking this Action?

Section 408(g)(1) of the FFDCA, 21 U.S.C. 346a(g)(1), authorizes EPA to stay the effectiveness of a regulation if objections are filed to such regulation. Section 408(g)(2) of the FFDCA, 21 U.S.C. 346a(g)(2), permits any person to file objections to a tolerance regulation and authorizes EPA to rule on such objections.

List of Subjects in 40 CFR Part 180

Environmental protection, Administrative practice and procedure, Agricultural commodities, Pesticides and pests, Reporting and recordkeeping requirements.

Dated: June 26, 2006.
Lois Rossi,
Director, Registration Division, Office of Pesticide Programs.

[FR Doc. E6-10454 Filed 7-3-06; 8:45 am]

BILLING CODE 6560-50-S